DEPARTMENT OF LABOR

Employment and Training Administration

[TA-W-53,161]

ATC Distribution Group, McKees Rocks, PA; Dismissal of Application for Reconsideration

Pursuant to 29 CFR 90.18(C) an application for administrative reconsideration was filed with the Director of the Division of Trade Adjustment Assistance for workers at ATC Distribution Group, McKees Rocks, Pennsylvania. The application contained no new substantial information which would bear importantly on the Department's determination. Therefore, dismissal of the application was issued.

TA-W-53,161; ATC Distribution Group McKees Rocks, Pennsylvania (January 23, 2003)

Signed at Washington, DC this 5th day of February 2004.
Timothy Sullivan,
Director, Division of Trade Adjustment Assistance.

[FR Doc. 04-3011 Filed 2-10-04; 8:45 am]

BILLING CODE 4510-30-P